DEPARTMENT OF HOUSING AND URBAN DEVELOPMENT

[Docket No. FR-5045-N-26]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Audrey C. Ormerod, Office of the Assistant Chief of Staff for Installation Management, Attn: DAIM-MD, Rm 1E677, 600 Army Pentagon, Washington, DC 20310-0600; (703) 601-2520; COE: Ms. Shirley Middleswarth, Army Corps of Engineers, Civil Division, 441 G Street, NW., Washington, DC 20314-1000; (202) 761-1295; ENERGY: Mr. John Watson, Department of Energy, Office of Engineering & Construction Management, ME-90, 1000 Independence Ave, SW., Washington, DC 20585: (202) 586-0072; NAVY: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: June 22, 2006.
Mark R. Johnston,
Acting Deputy Assistant Secretary for Special Needs.

Title V, Federal Surplus Property Program—Federal Register Report For 6/30/06

Suitable/Unavailable Properties

Buildings (by State)

Arizona

Bldg. 22040

Fort Huachuca

Cochise Co: AZ 85613-7010

Landholding Agency: Army

Property Number: 21200620065

Status: Excess

Comment: 1131 sq. ft., presence of asbestos/lead paint, most recent use—storage, off-site use only

Bldg. 22404

Fort Huachuca

Cochise Co: AZ 85613-7010

Landholding Agency: Army

Property Number: 21200620066

Status: Excess

Comment: 928 sq. ft., presence of asbestos/lead paint, most recent use—hdqts., off-site use only

Bldg. 22540

Fort Huachuca

Cochise Co: AZ 85613-7010

Landholding Agency Army

Property Number: 21200620067

Status: Excess

Comment: 958 sq. ft., most recent use—storage, off-site use only

Bldg. 66150

Fort Huachuca

Cochise Co: AZ 85613-7010

Landholding Agency: Army

Property Number: 21200620068

Status: Excess

Comment: 4027 sq. ft., most recent use—storage, off-site use only

Bldg. 76910

Fort Huachuca

Cochise Co: AZ 85613-7010

Landholding Agency: Army

Property Number: 21200620069

Status: Excess

Comment: 2001 sq. ft., presence of asbestos/lead paint, most recent use—admin., off-site use only

Bldg. 90335

Fort Huachuca

Cochise Co: AZ 85613-7010

Landholding Agency: Army

Property Number: 21200620070

Status: Excess

Comment: 456 sq. ft., most recent use—storage, off-site use only

Bldg. 90336

Fort Huachuca

Cochise Co: AZ 85613-7010

Landholding Agency: Army

Property Number: 21200620071

Status: Excess

Comment: 8339 sq. ft., most recent use—storage, off-site use only

Maryland

Bldg. 00239

Fort Meade

Anne Arundel Co: MD 20755-

Landholding Agency: Army

Property Number: 21200620072

Status: Unutilized

Comment: 2363 sq. ft., presence of asbestos/lead paint, most recent use—office, off-site use only

Bldg. 00249

Fort Meade

Anne Arundel Co: MD 20755-

Landholding Agency: Army

Property Number: 21200620073

Status: Unutilized

Comment: 894 sq. ft., presence of asbestos/lead paint, most recent use—storage, off-site use only

Bldg. 02212

Fort Meade

Anne Arundel Co: MD 20755-

Landholding Agency: Army

Property Number: 21200620074

Status: Unutilized

Comment: 9092 sq. ft., presence of asbestos/lead paint, most recent use—scout bldg., off-site use only

Texas

Bldgs. 125, 126

Fort Hood

Bell Co: TX 76544-

Landholding Agency: Army

Property Number: 21200620075

Status: Excess

Comment: 2700/7200 sq. ft., presence of asbestos, most recent use—admin., off-site use only

Bldg. 190

Fort Hood

Bell Co: TX 76544-

Landholding Agency: Army

Property Number: 21200620076

Status: Excess

Comment: 2995 sq. ft., presence of asbestos, most recent use—conf. center, off-site use only

Bldg. 00738

Fort Hood

Bell Co: TX 76544-

Landholding Agency: Army

Property Number: 21200620077

Status: Excess

Comment: 6400 sq. ft., most recent use—storage, off-site use only

Bldg. 02240

Fort Hood

Bell Co: TX 76544-

Landholding Agency: Army

Property Number: 21200620078

Status: Excess

Comment: 487 sq. ft., presence of asbestos, most recent use—pool svc bldg, off-site use only

Bldg. 04164

Fort Hood

Bell Co: TX 76544-

Landholding Agency: Army

Property Number: 21200620079

Status: Excess

Comment: 2253 sq. ft., presence of asbestos, most recent use—storage, off-site use only

Bldgs. 04218, 04228

Fort Hood

Bell Co: TX 76544-

Landholding Agency: Army

Property Number: 21200620080

Status: Excess

Comment: 4682/9000 sq. ft., presence of asbestos, most recent use—admin, off-site use only

Bldg. 04272

Fort Hood

Bell Co: TX 76544-

Landholding Agency: Army

Property Number: 21200620081

Status: Excess

Comment: 7680 sq. ft., presence of asbestos, most recent use—storage, off-site use only

Bldgs. 04289, 04331

Fort Hood

Bell Co: TX 76544-

Landholding Agency: Army

Property Number: 21200620082

Status: Excess

Comment: 1600/2432 sq. ft., presence of asbestos, most recent use—admin., off-site use only

Bldg. 04415

Fort Hood

Bell Co: TX 76544-

Landholding Agency: Army

Property Number: 21200620083

Status: Excess

Comment: 1750 sq. ft., presence of asbestos, most recent use—classroom, off-site use only

4 Bldgs

Fort Hood

04419, 04420, 04421, 04424

Bell Co: TX 76544-

Landholding Agency: Army

Property Number: 21200620084

Status: Excess

Comment: 5310 sq. ft., presence of asbestos, most recent use—admin., off-site use only

4 Bldgs.

Fort Hood

04425, 04426, 04427, 04429

Bell Co: TX 76544-

Landholding Agency: Army

Property Number: 21200620085

Status: Excess

Comment: 5310 sq. ft., presence of asbestos, most recent use—admin., off-site use only

4 Bldgs.

Fort Hood

04428, 04437, 04438, 04443

Bell Co: TX 76544-

Landholding Agency: Army

Property Number: 21200620086

Status: Excess

Comment: 3100 sq. ft., presence of asbestos, most recent use—admin., off-site use only

Bldg. 04430

Fort Hood

Bell Co: TX 76544-

Landholding Agency: Army

Property Number: 21200620087

Status: Excess

Comment: 3241 sq. ft., presence of asbestos, most recent use—storage, off-site use only

Bldg. 04434

Fort Hood

Bell Co: TX 76544-

Landholding Agency: Army

Property Number: 21200620088

Status: Excess

Comment: 5310 sq. ft., presence of asbestos, most recent use—admin., off-site use only

Bldg. 04439

Fort Hood

Bell Co: TX 76544-

Landholding Agency: Army

Property Number: 21200620089

Status: Excess

Comment: 3312 sq. ft., presence of asbestos, most recent use—co ops bldg, off-site use only

Bldgs. 04470, 04471

Fort Hood

Bell Co: TX 76544-

Landholding Agency: Army

Property Number: 21200620090

Status: Excess

Comment: 3241 sq. ft., presence of asbestos, most recent use—admin., off-site use only

Bldg. 04493

Fort Hood

Bell Co: TX 76544-

Landholding Agency: Army

Property Number: 21200620091

Status: Excess

Comment: 3108 sq. ft., presence of asbestos, most recent use—housing maint., off-site use only

Bldg. 04494

Fort Hood

Bell Co: TX 76544-

Landholding Agency: Army

Property Number: 21200620092

Status: Excess

Comment: 2686 sq. ft., presence of asbestos, most recent use—repair bays, off-site use only

Bldg. 04632

Fort Hood

Bell Co: TX 76544-

Landholding Agency: Army

Property Number: 21200620093

Status: Excess

Comment: 4000 sq. ft., presence of asbestos, most recent use—storage, off-site use only

Bldg. 04640

Fort Hood

Bell Co: TX 76544-

Landholding Agency: Army

Property Number: 21200620094

Status: Excess

Comment: 1600 sq. ft., presence of asbestos, most recent use—storage, off-site use only

Bldg. 04645

Fort Hood

Bell Co: TX 76544-

Landholding Agency: Army

Property Number: 21200620095

Status: Excess

Comment: 5300 sq. ft., presence of asbestos, most recent use—storage, off-site use only

Bldg. 04906

Fort Hood

Bell Co: TX 76544-

Landholding Agency: Army

Property Number: 21200620096

Status: Excess

Comment: 1040 sq. ft., presence of asbestos, most recent use—storage, off-site use only

Bldg. 20121

Fort Hood

Bell Co: TX 76544-

Landholding Agency: Army

Property Number: 21200620097

Status: Excess

Comment: 5200 sq. ft., presence of asbestos, most recent use—rec center, off-site use only

Bldg. 21002

Fort Hood

Bell Co: TX 76544-

Landholding Agency: Army

Property Number: 21200620098

Status: Excess

Comment: 9402 sq. ft., presence of asbestos, most recent use—dining facility, off-site use only

Bldg. 21003

Fort Hood

Bell Co: TX 76544-

Landholding Agency: Army

Property Number: 21200620099

Status: Excess

Comment: 115,440 sq. ft., presence of asbestos, most recent use—barracks/admin, off-site use only

Bldg. 70004

Fort Hood

Bell Co: TX 76544-

Landholding Agency: Army

Property Number: 21200620100

Status: Excess

Comment: 800 sq. ft., presence of asbestos, most recent use—recreation, off-site use only

Bldg. 91052

Fort Hood

Bell Co: TX 76544-

Landholding Agency: Army

Property Number: 21200620101

Status: Excess

Comment: 224 sq. ft., presence of asbestos, most recent use—lab/test, off-site use only

Unsuitable Properties

Buildings (by State)

Florida

Bldg. 25

(f) Richmond Naval Air Station

15810 SW 129th Ave.

Miami Co: Dade FL 33177-

Landholding Agency: COE

Property Number: 31200620031

Status: Excess

Reason: Extensive deterioration

Bldg. 508

Naval Station

Mayport Co: FL 32228-

Landholding Agency: Navy

Property Number: 77200620035

Status: Unutilized

Reasons: Floodway, Secured Area

Georgia

Bldg. 0038

Naval Submarine Base

Kings Bay Co: GA 31547-

Landholding Agency: Navy

Property Number: 77200620036

Status: Unutilized

Reasons: Secured Area, Extensive deterioration

Unsuitable Properties

Buildings (by State)

New York

Bldg. 0482

Brookhaven Natl Laboratory

Upton Co: NY 11973-

Landholding Agency: Energy

Property Number: 41200620023

Status: Unutilized

Reason: Secured Area

Bldg. 0649

Brookhaven Natl Laboratory

Upton Co: NY 11973-

Landholding Agency: Energy

Property Number: 41200620024

Status: Unutilized

Reason: Secured Area

Land (by State)

Washington

230 sq. ft. land

Naval Magazine

Indian Island Co: WA-

Landholding Agency: Navy

Property Number: 77200620037

Status: Underutilized

Reasons: Within 2000 ft. of flammable or explosive material, Secured Area

[FR Doc. E6-10115 Filed 6-29-06; 8:45 am]

BILLING CODE 4210-67-P